DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance at the address shown below, not later than February 5, 2001.

Interested persons are invited to submit written comments regarding the subject matter of the investigations to the Director, Division of Trade Adjustment Assistance, at the address shown below, not later than February 5, 2001.

The petitions filed in this case are available for inspection at the Office of the Director, Division of Trade Adjustment Assistant, Employment and Training Administration, U.S. Department of Labor, Room C-5311, 200 Constitution Avenue, N.W., Washington, D.C. 20210.

Signed at Washington, D.C. this 2nd day of January, 2001.
Edward A. Tomchick,
Director, Division of Trade Adjustment Assistance.

Appendix

Petitions Instituted on 01/02/2001
TA-W | Subject Firm (Petitioners) | Location | Date of petition | Product(s)
38,489 | Western Supplies (IAMAW) | St. Louis, MO | 12/15/2000 | Cutting Dies for Shoes.
38,490 | Latrobe Brewing Co. (Wkrs) | Latrobe, PA | 12/18/2000 | Rolling Rock Beer.
38,491 | Jefferson Apparel Corp. (Co.) | Jefferson, NC | 12/18/2000 | Knit Shirts.
38,492 | Wellman of Mississippi (Co.) | Bay St. Louis, MS | 12/15/2000 | Polyester Textile Fabers.
38,493 | Creative Products (Co.) | Rossville, IL | 12/12/2000 | Health and Beauty Aids.
38,494 | Prime Cast (Co.) | Beloit, WI | 12/14/2000 | Gray Iron.
38,495 | VF Imagewear (Wkrs) | Martinsville, VA | 12/13/2000 | Fleece and Jersey Garments.
38,496 | Dynamic Metal Forming (USWA) | Koppel, PA | 12/13/2000 | Stainless Steel Tubing.
38,497 | EGS O-Z Gedney (Co.) | LaGrange, GA | 12/14/2000 | Electrical Fittings.
38,498 | Ingersoll Rand (IAMAW) | Mayfield, KY | 11/20/2000 | Centrifugal Air Compressors.
38,499 | CHI International (Co.) | Crisfield, MD | 11/28/2000 | Stainless Steel Cutlery.
38,500 | American Pine Products (Wkrs) | Prineville, OR | 12/05/2000 | Finished Door and Window Parts.
38,501 | Photobit Corporation (Co.) | Pasadena, CA | 12/12/2000 | CMOS Image Sensors.
38,502 | Republic Technologies (Wkrs) | Baltimore, MD | 12/22/2000 | Stainless Steel Products.
38,503 | Turner Industries (Wkrs) | Mayfield, KY | 12/15/2000 | T-Shirt and Sweatshirts.
38,504 | Warren Logging (Co.) | Gold Hill, OR | 12/15/2000 | Logs.
38,505 | TDK Electronics (Wkrs) | Irvine, CA | 12/14/2000 | Audio Cassettes.
38,506 | Homestake Mining Co. (Wkrs) | Sparks, NV | 12/02/2000 | Gold Exploration.

[FR Doc. 01-1903 Filed 1-23-01; 8:45 am]

BILLING CODE 4510-30-M